DEPARTMENT OF COMMERCE

[A-122-822, A-122-823]

International Trade Administration

Certain Corrosion-Resistant Carbon Steel Flat Products and Certain Cut-to-Length Carbon Steel Plate From Canada: Notice of Extension of Time Limit for Preliminary Results of Antidumping Duty Administrative Review

AGENCY: Import Administration, International Trade Administration, Department of Commerce.

ACTION: Notice of extension of time limit for preliminary results of antidumping duty administrative review.

EFFECTIVE DATE: April 27, 2000.

FOR FURTHER INFORMATION CONTACT: Mark Hoadley, Import Administration, International Trade Administration, U.S. Department of Commerce, 14th Street and Constitution Avenue, NW., Washington, DC 20230; telephone: (202) 482-0666.

The Applicable Statute

Unless otherwise indicated, all citations to the Tariff Act of 1930, as amended (the Act) are to the provisions effective January 1, 1995, the effective date of the amendments made to the Act by the Uruguay Round Agreements Act. In addition, unless otherwise indicated, all citations to the Department's regulations are to 19 CFR part 351 (1999).

Extension of Time Limit for Preliminary Results

The Department of Commerce has received requests to conduct administrative reviews of the antidumping duty orders on certain corrosion-resistant carbon steel flat products and certain cut-to-length carbon steel plate from Canada. The Department initiated these reviews for Stelco, Inc., Dofasco, Inc., Sorevco, Inc., Continuous Colouor Coat, Ltd., and National Steel Corp., (corrosion-resistant) and Stelco, Inc., and Clayson Steel Inc. (cut-to-length) on October 1, 1999 (64 FR 53318-01).¹ We initiated for Gerdau MRM Steel (cut-to-length) on November 4, 1999 (64 FR 60161-01).² These reviews cover the period August 1, 1998 through July 31, 1999.

¹ Petitioners withdrew their request for a review of Stelco under both orders. Stelco did not request that its sales be reviewed. National withdrew its request to reviewed. Petitioners did not request that National be reviewed.

² We inadvertently failed to include Gerdau MRM Steel in our October 1, 1999 notice.

Due to the complexity of the issues, it is not practicable to complete these reviews within the time limit mandated by section 751(a)(3)(A) of the Act (See Memorandum from Edward C. Yang to Joseph A. Spetrini, Extension of Time Limit, April 7, 2000). Therefore, in accordance with that section, the Department is extending the time limit for the preliminary results to July 21, 2000. See also 19 CFR 351.213(h)(2).

Dated: April 7, 2000.
Joseph A. Spetrini,
Deputy Assistant Secretary for AD/CVD Enforcement Group III.

[FR Doc. 00-10527 Filed 4-26-00; 8:45 am]

BILLING CODE 3510-DS-M